DEPARTMENT OF ENERGY

Federal Energy Regulatory Commission

Combined Notice of Filings #1

Take notice that the Commission received the following electric rate filings:

Docket Numbers: ER10-1285-008.

Applicants: Craven County Wood Energy Limited Partnership.

Description: Supplement to September 12, 2019 Notice of Non-Material Change-In-Status of Craven County Wood Energy Limited Partnership.

Filed Date: 3/24/20.

Accession Number: 20200324-5187.

Comments Due: 5 p.m. ET 4/14/20.

Docket Numbers: ER10-2633-037.

Applicants: Birchwood Power Partners, L.P.

Description: Notice of Change in Status of Birchwood Power Partners, L.P.

Filed Date: 3/27/20.

Accession Number: 20200327-5321.

Comments Due: 5 p.m. ET 4/17/20.

Docket Numbers: ER20-1415-000.

Applicants: Tri-State Generation and Transmission Association, Inc.

Description: § 205(d) Rate Filing: Service Agreement No. 723 between Tri-State and GNE to be effective 2/27/2020.

Filed Date: 3/27/20.

Accession Number: 20200327-5262.

Comments Due: 5 p.m. ET 4/17/20.

Docket Numbers: ER20-1416-000.

Applicants: PJM Interconnection, L.L.C.

Description: § 205(d) Rate Filing: Revisions to OA, Schedule 6, sec 1.5 re: Actual Study Cost Recovery to be effective 5/27/2020.

Filed Date: 3/27/20.

Accession Number: 20200327-5276.

Comments Due: 5 p.m. ET 4/17/20.

Docket Numbers: ER20-1417-000.

Applicants: Roundhouse Renewable Energy, LLC.

Description: Baseline eTariff Filing: Roundhouse Renewable Energy, LLC Application for MBR Authority to be effective 5/27/2020.

Filed Date: 3/27/20.

Accession Number: 20200327-528.0.

Comments Due: 5 p.m. ET 4/17/20.

Docket Numbers: ER20-1418-000.

Applicants: Pacific Gas and Electric Company.

Description: Compliance filing: FERC Order No. 864 (re: ADIT) TO Tariff Compliance Filing to be effective 1/27/2020.

Filed Date: 3/27/20.

Accession Number: 20200327-5300.

Comments Due: 5 p.m. ET 4/17/20.

Docket Numbers: ER20-1419-000.

Applicants: New York Independent System Operator, Inc.

Description: Request for Waiver of Tariff Provisions, et al. of New York Independent System Operator, Inc.

Filed Date: 3/27/20.

Accession Number: 20200327-5320.

Comments Due: 5 p.m. ET 4/3/20.

Docket Numbers: ER20-1420-000.

Applicants: PJM Interconnection, L.L.C.

Description: § 205(d) Rate Filing: Amendment to Original WMPA No. 5498; Queue No. AE1-074 to be effective 10/14/2019.

Filed Date: 3/30/20.

Accession Number: 20200330-5176.

Comments Due: 5 p.m. ET 4/20/20.

Docket Numbers: ER20-1421-000.

Applicants: Southwest Power Pool, Inc.

Description: § 205(d) Rate Filing: 3125R8 Basin Electric Power Cooperative NITSA and NOA to be effective 3/1/2020.

Filed Date: 3/30/20.

Accession Number: 20200330-5177.

Comments Due: 5 p.m. ET 4/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2020.
Nathaniel J. Davis, Sr.,
Deputy Secretary.

[FR Doc. 2020-07019 Filed 4-2-20; 8:45 am]

BILLING CODE 6717-01-P